DEPARTMENT OF ENERGY

Federal Energy Regulatory Commission

Notice of Settlement Agreement and Soliciting Comments

February 5, 2004.

Take notice that the following settlement agreement has been filed with the Commission and is available for public inspection.

a. Type of Application: Settlement agreement on new license application.

b. Project No.: P-2233-043.

c. Date Filed: February 2, 2004.

d. Applicant: Portland General Electric Company.

e. Name of Project: Willamette Falls Hydroelectric Project.

f. Location: On the Willamette River, in the Town of West Linn, Clackamas County, Oregon.

g. Filed Pursuant to: Rule 602 of the Commission's rules of practice and procedure, 18 CFR 385.602.

h. Applicant Contact: Julie A. Keil, Director, Hydro Licensing, Portland General Electric Company, 121 SW. Salmon Street, Portland, Oregon 97204, 503-464-8864

i. FERC Contact: John Blair, 202-502-6092, john.blair@ferc.gov.

j. Deadline for Filing Comments: March 5, 2004. Reply comments: March 15, 2004.

All documents (original and eight copies) should be filed with: Magalie R. Salas, Secretary, Federal Energy Regulatory Commission, 888 First Street, NE., Washington, DC 20426.

The Commission's rules of practice require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Portland General Electric Company filed the Settlement Agreement on behalf of itself and the U.S. Fish & Wildlife Service, NOAA Fisheries (formerly National Marine Fisheries Service), Oregon Department of Environmental Quality, Oregon Department of Fish and Wildlife, Oregon Water Resources Department, Confederated Tribes of Warm Springs Reservation of Oregon, Confederated Tribes of Siletz Indians of Oregon, Confederated Tribes of the Grand Ronde Community of Oregon, American Rivers, Oregon Trout, The Native Fish Society, and Trout Unlimited. The purpose of the Settlement Agreement is to resolve among the signatories issues regarding the licensing of the Willamette Falls Project. These parties represent the major stakeholders with interests affected by the relicensing of the Project. All Parties have agreed that the Settlement Agreement is fair and reasonable and in the public interest. On behalf of the Parties, PGE requests that the Commission approve the Settlement Agreement and adopt it as part of the new license without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at; http://www.ferc.gov/docs-filing/esubscription.asp to be notified via email of new filings and issuances related to this or other pending projects. For assistance, contact FERC Online Support.

Linda Mitry,
Acting Secretary.

[FR Doc. E4-402 Filed 2-25-04; 8:45 am]

BILLING CODE 6717-01-P